DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005, (202) 357-6400. For information on HRSA's role in the Program, contact the Acting Director, National Vaccine Injury Compensation Program, 5600 Fishers Lane, Room 11C-26, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on April 1, 2005, through June 30, 2005.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Vaccine Injury Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Acting Director, Division of Vaccine Injury Compensation Program, Healthcare Systems Bureau, 5600 Fishers Lane, Room 11C-26, Rockville, MD 20857. The Court's caption (Petitioner's Name v. Secretary of Health and Human Services) and the docket number assigned to the petition should be used as the caption for the written submission. Chapter 35 of title 44, United States Code, related to paperwork reduction, does not apply to information required for purposes of carrying out the Program.

1. Timothy Millet on behalf of Joshua Millet, Boston, Massachusetts, Court of Federal Claims Number 05-0426V

2. Diane Conoly on behalf of Sharp Conoly, Boston, Massachusetts, Court of Federal Claims Number 05-0427V

3. Elizabeth Thomassen on behalf of Aeryn Thomassen, Boston, Massachusetts, Court of Federal Claims Number 05-0428V

4. Michael Collins on behalf of Jacob Collins, Boston, Massachusetts, Court of Federal Claims Number 05-0429V

5. Lane Massey on behalf of Jennifer Massey, Boston, Massachusetts, Court of Federal Claims Number 05-0430V

6. Tasha Randall on behalf of Dorion Johnson, Boston, Massachusetts, Court of Federal Claims Number 05-0431V

7. Brenda McLain on behalf of Cayden McLain, Boston, Massachusetts, Court of Federal Claims Number 05-0432V

8. Johnielle Barren on behalf of Jonathan Chandler Barren, Mobile, Alabama, Court of Federal Claims Number 05-0433V

9. Nahid Ramezani and Amir Poushangi on behalf of Rashim Poushangi, Baltimore, Maryland, Court of Federal Claims Number 05-0435V

10. Lisa and Richard Wells on behalf of Timothy Wells, New Orleans, Louisiana, Court of Federal Claims Number 05-0436V

11. Karen Tiufekchiev, Vienna, Virginia, Court of Federal Claims Number 05-0437V

12. Keri Lynn Kooi, Indianapolis, Indiana, Court of Federal Claims Number 05-0438V

13. Ellyn Weston and Michael Coopersmith on behalf of Noah Simon Coopersmith, Lake Success, New York, Court of Federal Claims Number 05-0442V

14. Deborah and Kevin Murphy on behalf of Brandon Michael Murphy, Lake Success, New York, Court of Federal Claims Number 05-0443V

15. Jeanne and Kenneth Watnilk on behalf of Frank Watnilk, Glendale, California, Court of Federal Claims Number 05-0444V

16. Korinn D. Eldredge, Boise, Idaho, Court of Federal Claims Number 05-0445V

17. Bettie Jo and Timothy Ray Smith on behalf of Owen Robert Anson Smith, New York, New York, Court of Federal Claims Number 05-0446V

18. Karen and Joseph Chu on behalf of Robert Chu, Stevenson Ranch, California, Court of Federal Claims Number 05-0449V

19. Janara and Gene Itov on behalf of Jeffrey Itov, Flemington, New Jersey, Court of Federal Claims Number 05-0453V

20. Susan and Richard Garbutt on behalf of Erica Garbutt, Newport Beach, California, Court of Federal Claims Number 05-0459V

21. Courtney Lugaro on behalf of Grace Lugaro, Philadelphia, Pennsylvania, Court of Federal Claims Number 05-0460V

22. Courtney Lugaro on behalf of Luke Lugaro, Philadelphia, Pennsylvania, Court of Federal Claims Number 05-0461V,

23. Brian Selfridge on behalf of Benjamin Selfridge Somers Point, New Jersey, Court of Federal Claims Number 05-0464V,

24. Frank Forcinito on behalf of Kyle Forcinito, Somers Point, New Jersey, Court of Federal Claims Number 05-0465V

25. Amy Wilkins on behalf of Ryan Wilkins, Powder Springs, Georgia, Court of Federal Claims Number 05-0467V

26. Laura and Robert Theriot on behalf of Thomas Daniel Theriot, Houston, Texas, Court of Federal Claims Number 05-0469V

27. Jodie Harker-Lee on behalf of Chance Harker, Boston, Massachusetts, Court of Federal Claims Number 05-0470V

28. August Stefkovich on behalf of Natalia Stefkovich, Boston, Massachusetts, Court of Federal Claims Number 05-0471V

29. Shannon and Robert Tinnell on behalf of John F.O. Tinnell, Charlestown, West Virginia, Court of Federal Claims Number 05-0473V

30. Linda and Robert Ruckert on behalf of David Ruckert, Somers Point, New Jersey, Court of Federal Claims Number 05-0476V

31. Lily Chau on behalf of Darian Chau, Monterey Park, California, Court of Federal Claims Number 05-0480V

32. Bethie Simens on behalf of Kenney Mayard, West Palm Beach, Florida, Court of Federal Claims Number 05-0481V

33. Genevieve and Robert Kumapley on behalf of Nicholas Kumapley, Somers Point, New Jersey, Court of Federal Claims Number 05-0482V

34. Dayna and Robert Hoff on behalf of Garret Hoff, La Mesa, California, Court of Federal Claims Number 05-0486V

35. Paula and Douglas Petit on behalf of Samuel Petit, Minneapolis, Minnesota, Court of Federal Claims Number 05-0487V

36. Richelle Christopherson on behalf of Trevor Christopherson, Cameron Park, California, Court of Federal Claims Number 05-0492V

37. Paula and Lusi Perez on behalf of Elena Isabel Perez, Marietta, Georgia, Court of Federal Claims Number 05-0493V

38. Peter Church, South Burlington, Vermont, Court of Federal Claims Number 05-0496V

39. Cheri Hessinger on behalf of Shane Hessinger, Chicago, Illinois, Court of Federal Claims Number 05-0497V

40. Katie and Chris French on behalf of Zack Thomas French, Decatur, Texas, Court of Federal Claims Number 05-0498V

41. Katie and Chris French on behalf of Justin Rig French, Decatur, Texas, Court of Federal Claims Number 05-0499V

42. Tracy and Lawrence Pritchard on behalf of Zabort Pritchard, Kingsport, Tennessee, Court of Federal Claims Number 05-0502V

43. Mary Miller on behalf of Michael Matthew Miller, Omaha, Nebraska, Court of Federal Claims Number 05-0504V

44. Susan and Wein Lee King on behalf of Bradley Skyler King, Stuart, Florida, Court of Federal Claims Number 05-0509V

45. Nancy Potts on behalf of William Andrew Potts, Somers Point, New Jersey, Court of Federal Claims Number 05-0510V

46. Shirley Persad on behalf of Dimitrios Dounis, Catskill, New York, Court of Federal Claims Number 05-0512V

47. Lydia Jakymowych on behalf of Alexander Jakymowych, Boston, Massachusetts, Court of Federal Claims Number 05-0518V

48. Mary Rose O'Connell on behalf of Matthew Glickstein, Boston, Massachusetts, Court of Federal Claims Number 05-0519V

49. John Dunn on behalf of Sean Dunn, Boston, Massachusetts, Court of Federal Claims Number 05-0520V

50. Lisa Beck on behalf of Joshua Beck, Boston, Massachusetts, Court of Federal Claims Number 05-0521V

51. Lydia Jakymowych on behalf of Michael Jakymowych, Boston, Massachusetts, Court of Federal Claims Number 05-0522V

52. Joshua Cameron on behalf of Jacob Cameron, Boston, Massachusetts, Court of Federal Claims Number 05-0523V

53. Maria and Rudolfo Torres on behalf of Anaceli Torres, Union City, New Jersey, Court of Federal Claims Number 05-0529V

54. Daniel Pitt on behalf of Damien Pitt, Seattle, Washington, Court of Federal Claims Number 05-0530V

55. Minerva and Dennis Bailey on behalf of Derek Bailey, Pembroke Pines, Florida, Court of Federal Claims Number 05-0531V

56. Howard Baumgartner on behalf of Tyler Baumgartner, Philadelphia, Pennsylvania, Court of Federal Claims Number 05-0535V

57. Harriett and John Lewis Hart on behalf of Donovan Charles Hart, Yardley, Pennsylvania, Court of Federal Claims Number 05-0536V

58. Pamela Evans on behalf of Grace Evans, Boston, Massachusetts, Court of Federal Claims Number 05-0538V

59. Lloyd Zucker on behalf of Landon Zucker, Boston, Massachusetts, Court of Federal Claims Number 05-0539V

60. Patricia McGarry on behalf of Ryan McGarry, Boston, Massachusetts, Court of Federal Claims Number 05-0540V

61. Patricia and Ernest Zarro on behalf of Daniel Zarro, Ossining, New York, Court of Federal Claims Number 05-0542V

62. Heather and Alex Short on behalf of Jaydon Short, Salt Lake City, Utah, Court of Federal Claims Number 05-0546V

63. James Irving Pearson on behalf of Logan James Pearson, Eagle Point, Oregon, Court of Federal Claims Number 05-0553V

64. Elisabeth Francis on behalf of Joshua Francis, Gardnerville, New York, Court of Federal Claims Number 05-0554V

65. Elisabeth Francis on behalf of Rachel Francis, Gardnerville, New York, Court of Federal Claims Number 05-0555V

66. Christine and Patrick Mulvaney on behalf of Daniel Mulvaney, Oveido, Florida, Court of Federal Claims Number 05-0556V

67. Kevin Johnson, Joplin, Missouri, Court of Federal Claims Number 05-0557V

68. Lee Ann and Stephen Kay on behalf of Macklin Kay, Boston, Massachusetts, Court of Federal Claims Number 05-0562V

69. William Bryan on behalf of Lily Bryan, Austin, Texas, Court of Federal Claims Number 05-0566V

70. Christine and Bruce Hopkins on behalf of Alex Hopkins, Melbourne, Florida, Court of Federal Claims Number 05-0568V

71. Tina and Bryan Long on behalf of Stone Long, Lewisville, North Carolina, Court of Federal Claims Number 05-0569V

72. Deborah Kelly, San Diego, California, Court of Federal Claims Number 05-0570V

73. Holly Austin on behalf of Kaleb Austin, Boston, Massachusetts, Court of Federal Claims Number 05-0579V

74. Kate Miller on behalf of Sara Miller, Cooperstown, Pennsylvania, Court of Federal Claims Number 05-0581V

75. Linda Forcello on behalf of Sean Forcello, Boston, Massachusetts, Court of Federal Claims Number 05-0583V

76. Tammy Bowers on behalf of Johnny Andrew Bowers, Boston, Massachusetts, Court of Federal Claims Number 05-0584V

77. Susan Artley on behalf of John Artley, Boston, Massachusetts, Court of Federal Claims Number 05-0585V

78. Philip Way on behalf of Bailey Way, South Beloit, Illinois, Court of Federal Claims Number 05-0588V

79. Louise Habakus on behalf of Ian Habakus, Red Bank, New Jersey, Court of Federal Claims Number 05-0589V

80. Cynthia Stith on behalf of Christian Stith, Boston, Massachusetts, Court of Federal Claims Number 05-0593V

81. Linda and Duane Amity on behalf of Kaitlan Amity, Monroeville, Pennsylvania, Court of Federal Claims Number 05-0594V

82. Jennifer Seitzinger on behalf of Madison Seitzinger, Pittsburgh, Pennsylvania, Court of Federal Claims Number 05-0596V

83. Lee and Chaney Diamond on behalf of Jackson Diamond, Chicago, Illinois, Court of Federal Claims Number 05-0597V

84. Nancy Agosta, Cary, North Carolina, Court of Federal Claims Number 05-0598V

85. Kim Johnston, Round Rock, Texas, Court of Federal Claims Number 05-0599V

86. Mercedes Summers on behalf of Jordan Mayville, Somers Point, New Jersey, Court of Federal Claims Number 05-0600V

87. Teresa Mae Wade-Coursin on behalf of Bryce S-H Wade-Coursin, Alliance, Ohio, Court of Federal Claims Number 05-0601V

88. Sheila and Dan Graham on behalf of Gavin Lynch Graham, Salisbury, North Carolina, Court of Federal Claims Number 05-0603V

89. Pamela and Joseph Doyle on behalf of Katelyn Doyle, Raleigh, North Carolina, Court of Federal Claims Number 05-0605V

90. Jennifer Hadsell on behalf of Mitchell Hadsell, Boston, Massachusetts, Court of Federal Claims Number 05-0609V

91. Jane Hayes on behalf of Grant Hayes, Franklin, Tennessee, Court of Federal Claims Number 05-0610V

92. Katherine and Dean Weber on behalf of Andrew Julius Weber, Bloomington, Indiana, Court of Federal Claims Number 05-0611V

93. Julie Gabos on behalf of Anthony Gabos, Scottsdale, Arizona, Court of Federal Claims Number 05-0613V

94. Anne Hetmaniak on behalf of Adam Zaring, Boston, Massachusetts, Court of Federal Claims Number 05-0614V

95. Minerva and Dennis Bailey on behalf of Dylan Bailey, Pembroke Pines, Florida, Court of Federal Claims Number 05-0616V

96. Tammy Wandling on behalf of Austin Wandling, Somers Point, New Jersey, Court of Federal Claims Number 05-0617V

97. Katherine and Dean Weber on behalf of Andrew Julius Weber, Bloomington, Indiana, Court of Federal Claims Number 05-0618V

98. Bonnie Rukstelo on behalf of Nathan Rukstelo, Jackson, Michigan, Court of Federal Claims Number 05-0619V

99. Christina Burks-Quintero on behalf of Milani Quintero, Rancho Cucamonga, California, Court of Federal Claims Number 05-0620V

100. Princess Burks on behalf of Christina Burks, Rancho Cucamonga, California, Court of Federal Claims Number 05-0621V

101. Jesus Contreas on behalf of Jessie Contreas, Los Angeles, California, Court of Federal Claims Number 05-0626V

102. Line and Robert Fleming on behalf of Robert Evan Fleming, Snellville, Georgia, Court of Federal Claims Number 05-0629V

103. Elizabeth Pitts, Cornelius, North Carolina, Court of Federal Claims Number 05-0648V

104. Cynthia and Timothy Connors on behalf of Gavin Connors, Hampden, Massachusetts, Court of Federal Claims Number 05-0671V

105. Aline and James Malinowski on behalf of James Korben Malinowski, Somers Point, New Jersey, Court of Federal Claims Number 05-0672V

106. Nancie Abston and Jason Fairchild on behalf of Alexander James Fairchild, Deceased, Springfield, Ohio, Court of Federal Claims Number 05-0673V

107. Terry and Kim McMillan on behalf of Terry Michael McMillan, Salisbury, North Carolina, Court of Federal Claims Number 05-0678V

108. Elizabeth Vataker on behalf of Erik Vataker, Weston, Florida, Court of Federal Claims Number 05-0679V

109. Mary Ann Sherman, San Diego, California, Court of Federal Claims Number 05-0680V

110. Heather and Robert Avila on behalf of Taylor Avila, Londonderry, New Hampshire, Court of Federal Claims Number 05-0685V

111. Lisa and Matthew Karlovsky on behalf of Jacob Karlovsky, Scottsdale, Arizona, Court of Federal Claims Number 05-0686V

112. Cynthia Stith on behalf of Kerry Stith, Boston, Massachusetts, Court of Federal Claims Number 05-0688V

113. Kristin Cihak and John Ellis on behalf of Jackson Ellis, Boston, Massachusetts, Court of Federal Claims Number 05-0689V

114. Dina and Pastor Felisilda on behalf of Dean Felisilda, Boston, Massachusetts, Court of Federal Claims Number 05-0690V

115. Michele Brandon on behalf of Gregory Brandon, Boston, Massachusetts, Court of Federal Claims Number 05-0691V

116. Michele and Neil Van Allen on behalf of Katrina M. Van Allen, Valatie, New York, Court of Federal Claims Number 05-0692V

117. Jeffrey Morrow on behalf of Elizabeth Mei Li Morrow, Seattle, Washington, Court of Federal Claims Number 05-0693V

118. Felishia Wisw and Tysheem Hargrove on behalf of Tysheem Hargrove, Jr., Philadelphia, Pennsylvania, Court of Federal Claims Number 05-0694V

119. John Dougherty, Portland, Oregon, Court of Federal Claims Number 05-0700V

120. Marta Pagan, San German, Puerto Rico, Court of Federal Claims Number 05-0701V

121. Jeffrey Morrow on behalf of Ana Mei Mei Morrow, Seattle, Washington, Court of Federal Claims Number 05-0702V

122. Stephanie and Richard Mathis on behalf of Noah Mathis, Boston, Massachusetts, Court of Federal Claims Number 05-0705V

123. Julianne and Donald King on behalf of Beau King, Boston, Massachusetts, Court of Federal Claims Number 05-0706V

124. Gina Lascuola on behalf of Francesca Marie Lascuola, Overland Park, Kansas, Court of Federal Claims Number 05-0710V

Dated: August 10, 2005.
Dennis P. Williams,
Deputy Administrator.

[FR Doc. 05-16237 Filed 8-16-05; 8:45 am]

BILLING CODE 4165-15-U